DEPARTMENT OF THE INTERIOR

Bureau of Land Management

[LLAZ910000.L12100000.XP0000LXSS150A00006100.241A]

State of Arizona Resource Advisory Council Meeting

AGENCY: Bureau of Land Management, Interior.

ACTION: Notice of Arizona Resource Advisory Council meeting.

SUMMARY: In accordance with the Federal Land Policy and Management Act of 1976 and the Federal Advisory Committee Act of 1972, the U.S. Department of the Interior, Bureau of Land Management (BLM), Arizona Resource Advisory Council (RAC), will meet on September 23, 2010, at the BLM National Training Center located at 9828 North 31st Avenue in Phoenix from 8 a.m. until 4:30 p.m. Agenda items include: BLM State Director's update on statewide issues; Presentation on water processes, issues and strategies affecting public lands in Arizona; State Director Update on the BLM Arizona National Landscape Conservation System (NLCS), Update on the Renewable Energy Strategy and RAC discussion and recommendations on factors BLM should consider as these strategies are implemented; RAC questions on BLM District Managers' Reports; and reports by RAC working groups. A public comment period will be provided at 11:30 a.m. on September 23, 2010, for any interested members of the public who wish to address the Council on BLM programs and business.

Under the Federal Lands Recreation Enhancement Act, the RAC has been designated as the Recreation Resource Advisory Council (RRAC), and has the authority to review all BLM and Forest Service (FS) recreation fee proposals in Arizona. The afternoon meeting agenda on September 23, will include a brief review of the Recreation Enhancement Act (REA) Working Group Report, REA Working Group meeting schedule and future BLM/FS recreation fee proposals. The RRAC will review any recreation fee proposals at this meeting.

DATES: Effective Date: August 23, 2010.

FOR FURTHER INFORMATION CONTACT: Dorothea Boothe, Bureau of Land Management, Arizona State Office, One North Central Avenue, Suite 800, Phoenix, Arizona 85004-4427, 602-417-9504.

James G. Kenna,
Arizona State Director.

[FR Doc. 2010-20811 Filed 8-20-10; 8:45 am]

BILLING CODE 4310-32-P